DEPARTMENT OF ENERGY

Federal Energy Regulatory Commission

[Docket No. RP03-578-000]

Midwestern Gas Transmission Company; Notice of Proposed Changes in FERC Gas Tariff

August 29, 2003.

Take notice that on August 26, 2003, Midwestern Gas Transmission Company (Midwestern) tendered for filing to become part of Midwestern's FERC Gas Tariff, Third Revised Volume No. 1, the following tariff sheets to become effective October 1, 2003:

Third Revised Sheet No. 200

Fourth Revised Sheet No. 264

Fifth Revised Sheet No. 201

Fourth Revised Sheet No. 203

First Revised Sheet No. 264A

Sixth Revised Sheet No. 204

Sixth Revised Sheet No. 206

Third Revised Sheet No. 266

Third Revised Sheet No. 230B

Fourth Revised Sheet No. 246

Original Sheet No. 266.01

Original Sheet No. 246.01

Fifth Revised Sheet No. 262

Second Revised Sheet No. 266A

Third Revised Sheet No. 262.01

Second Revised Sheet No. 266B

Third Revised Sheet No. 263

Original Sheet No. 266C

Original Sheet No. 270A

Eighth Revised Sheet No. 273

Original Sheet No. 274

Sheet Nos. 275-399

Midwestern states that the purpose of this filing is to update Midwestern's currently effective tariff sheets to reflect the changes that have been accepted by the Commission in Midwestern's Order No. 637 compliance proceeding in Docket Nos. RP00-467-002 and 003 in an Order dated June 5, 2003 (103 FERC ¶ 61,294). Midwestern states that this instant filing is a housekeeping tariff filing prompted by the fact that Midwestern explains that, during the interval of time between Midwestern's compliance filing and the Commission's Order in Midwestern's Order No. 637 compliance proceeding, Midwestern filed and the Commission accepted other Midwestern tariff filings that did not contain Midwestern's Order No. 637 compliance proceeding tariff changes because they had not been accepted at the time the other proceedings were filed.

Midwestern states that copies of this filing have been sent to all of Midwestern's shippers and interested state regulatory commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary (FERRIS) link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-library link.

Magalie R. Salas,
Secretary.

[FR Doc. 03-22731 Filed 9-5-03; 8:45 am]

BILLING CODE 6717-01-P